INTERNATIONAL TRADE COMMISSION

[Investigation No. 332-437]

Advice Concerning Possible Modifications to the U.S. Generalized System of Preferences with Respect to Certain Products Imported From AGOA Countries

AGENCY: United States International Trade Commission.

ACTION: Institution of investigation and scheduling of hearing.

SUMMARY: On January 17, 2002, the Commission received a request from the United States Trade Representative (USTR) for an investigation under section 332(g) of the Tariff Act of 1930 (19 U.S.C. 1332(g)) for the purpose of providing advice concerning possible modifications to the Generalized System of Preferences (GSP) with respect to certain products from beneficiary sub-Saharan African countries under the African Growth and Opportunity Act (AGOA). Following receipt of the request, the Commission instituted investigation No. 332-437, Advice Concerning Possible Modifications to the U.S. Generalized System of Preferences with Respect to Certain Products Imported from AGOA Countries, for the purpose of providing advice as follows:

(1) With respect to unwrought manganese flake as described by the USTR in its notice published in the Federal Register of January 24, 2002 (67 F.R. 3530), advice as to the probable economic effect on U.S. industries producing like or directly competitive articles and on consumers of the elimination of United States import duties only for countries designated as beneficiary sub-Saharan African countries under the African Growth and Opportunity Act (AGOA) in general note 16 of the Harmonized Tariff Schedule of the United States (HTS). The USTR requested that the Commission, in providing its advice, assume that the benefits of the GSP would continue to apply to imports that would be normally excluded from receiving such benefits by virtue of the competitive need limits specified in section 503(c)(2)(A) of the Trade Act of 1974 (1974 Act) (19 U.S.C. 2463(c)(2)(A)). The USTR noted that an exemption from the application of the competitive need limits for the beneficiary AGOA countries is provided for in section 503(c)(2)(D) of the 1974 Act (19 U.S.C. 2463(c)(2)(D); and

(2) With respect to prepared or preserved pears as described in HTS subheading 2008.40.00, advice as to the probable economic effect on United States industries producing like or directly competitive articles and on consumers of the removal of the article from eligibility for duty-free treatment under the GSP. The USTR noted that the article is currently eligible for GSP only for countries designated as beneficiary AGOA countries in general note 16 of the HTS. As requested by USTR, the Commission will seek to provide its advice not later than April 25, 2002.

EFFECTIVE DATES: January 29, 2002.

FOR FURTHER INFORMATION CONTACT: Project Manager, Douglas Newman (202-205-3328; newman@usitc.gov) in the Commission's Office of Industries. For information on legal aspects of the investigation contact William Gearhart of the Commission's Office of the General Counsel (202-205-3091; wgearhart@usitc.gov). Hearing impaired individuals may obtain information on this matter by contacting the Commission's TDD terminal on 202-205-1810. Persons with mobility impairments who will need special assistance in gaining access to the Commission should contact the Office of the Secretary at 202-205-2000. General information about the Commission may be obtained by accessing its Internet server (http://www.usitc.gov). The public record for this investigation may be viewed on the Commission's electronic docket (EDIS On-Line) at http://dockets.usitc.gov/eol/public/.

Public Hearing: A public hearing in connection with this investigation is scheduled to begin at 9:30 a.m. on March 6, 2002, at the U.S. International Trade Commission Building, 500 E Street SW., Washington, DC. All persons have the right to appear by counsel or in person, to present information, and to be heard. Persons wishing to appear at the public hearing should file a letter with the Secretary, United States International Trade Commission, 500 E St., SW., Washington, DC 20436, not later than the close of business (5:15 p.m.) on February 20, 2002. In addition, persons appearing should file prehearing briefs (original and 14 copies) with the Secretary by the close of business on February 21, 2002. Posthearing briefs should be filed with the Secretary by the close of business on March 13, 2002. In the event that no requests to appear at the hearing are received by the close of business on February 20, 2002, the hearing will be canceled. Any person interested in attending the hearing as an observer or non-participant may call the Secretary to the Commission (202-205-1816) after February 20, 2002, to determine whether the hearing will be held.

Written Submissions: In lieu of or in addition to appearing at the public hearing, interested persons are invited to submit written statements concerning the investigation. Written statements should be received by the close of business on March 13, 2002. Commercial or financial information which a submitter desires the Commission to treat as confidential must be submitted on separate sheets of paper, each clearly marked “Confidential Business Information” at the top. All submissions requesting confidential treatment must conform with the requirements of section 201.6 of the Commission's Rules of Practice and Procedure (19 CFR 201.6). The Commission may include some or all of such confidential business information submitted in its report to the USTR. All written submissions, except for confidential business information, will be made available for inspection by interested persons. All submissions should be addressed to the Secretary at the Commission's office in Washington, DC. The Commission's rules do not authorize filing of submissions with the Secretary by facsimile or electronic means. Hearing-impaired individuals are advised that information on this matter can be obtained by contacting our TDD terminal on (202) 205-1810.

By order of the Commission.
Issued: January 31, 2002.
Marilyn R. Abbott,
Acting Secretary.

[FR Doc. 02-2701 Filed 2-4-02; 8:45 am]

BILLING CODE 7020-02-P